DEPARTMENT OF HOMELAND SECURITY

Federal Emergency Management Agency

Agency Information Collection Activities: Submission for OMB Review; Comment Request

AGENCY: Federal Emergency Management Agency, Department of Homeland Security.

ACTION: Notice and request for comments.

SUMMARY: The Federal Emergency Management Agency (FEMA) has submitted the following information collection to the Office of Management and Budget (OMB) for review and clearance in accordance with the requirements of the Paperwork Reduction Act of 1995. The submission describes the nature of the information collection, the categories of respondents, the estimated burden (i.e., the time, effort and resources used by respondents to respond) and cost, and includes the actual data collection instruments FEMA will use.

Title: Inspection of Insured Structures by Communities.

OMB Number: 1660-0045.

Abstract: The community inspection report is needed to effectively implement the inspection procedures for building structures in Monroe County, the City of Marathon, and the Village of Islamorada, Florida comply with the community's floodplain management ordinance and to ensure that property owners pay flood insurance premiums commensurate with their flood risk. The inspection procedure requires owners of insured buildings (policyholders) obtain an inspection from community floodplain management officials and submit a community inspection report as a condition of renewing Standard Flood Insurance Policy (SFIP) on buildings.

Affected Public: Individual or Households, and Business or Other For Profit.

Number of Respondents: 4,000.

Estimated Time per Respondent: 4 hours.

Estimated Total Annual Burden Hours: ¹ 6,304 hours.

¹ The total burden hours have changed since publication of the 60-day Federal Register Notice dated November 23, 2005, to include: (1) The number of respondent and responses have increased; (2) A change in the calculation for compliant and non-complaint building structures.

Frequency of Response: One time.

Comments: Interested persons are invited to submit written comments on the proposed information collection to the Office of Information and Regulatory Affairs at OMB, Attention: Desk Officer for the Department of Homeland Security/FEMA, Docket Library, Room 10102, 725 17th Street, NW., Washington, DC 20503, or facsimile number (202) 395-7285. Comments must be submitted on or before March 3, 2006.

FOR FURTHER INFORMATION CONTACT: Requests for additional information or copies of the information collection should be made to Chief, Records Management, FEMA, 500 C Street, SW., Room 316, Washington, DC 20472, facsimile number (202) 646-3347, or e-mail address FEMA-Information-Collections@dhs.gov.

Dated: January 25, 2006.
George Trotter,
Acting Branch Chief, Information Resources Management Branch, Information Technology Services Division.

[FR Doc. E6-1332 Filed 1-31-06; 8:45 am]

BILLING CODE 9110-11-P